DEPARTMENT OF TRANSPORTATION

National Highway Traffic Safety Administration

[DOT Docket No. NHTSA-06-26554]

Reports, Forms, and Recordkeeping Requirements

AGENCY: National Highway Traffic Safety Administration (NHTSA), Department of Transportation.

ACTION: Request for public comment on proposed collection of information.

SUMMARY: This notice solicits public comment on continuation of the requirements for the collection of information on safety standards. Before a Federal agency can collect certain information from the public, it must receive approval from the Office of Management and Budget (OMB). Under procedures established by the Paperwork Reduction Act of 1995, before seeking OMB approval, Federal agencies must solicit public comment on proposed collections of information, including extensions and reinstatement of previously approved collections.

This document describes a collection of information associated with 49 CFR Part 574, Tire Identification and Recordkeeping.

DATES: Comments must be received on or before February 6, 2007.

ADDRESSES: Comments must refer to the docket notice number cited at the beginning of this notice and be submitted to Docket Management, Room PL-401, 400 Seventh St., SW., Washington, DC 20590. It is requested, but not required, that 2 copies of the comment be provided. The Docket Section is open on weekdays from 10 am to 5 pm except for Federal holidays.

FOR FURTHER INFORMATION CONTACT: Complete copies of each request for collection of information may be obtained from Mr. George Soodoo, NVS-122, National Highway Traffic Safety Administration, 400 Seventh Street, SW., Washington, DC 20590. Mr. Soodoo's telephone number is: (202) 366-5274.

SUPPLEMENTARY INFORMATION: Under the Paperwork Reduction Act of 1995, before a proposed collection of information is submitted to OMB for approval, Federal agencies msut first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks for public comment on the following proposed collection of information:

Title: 49 CFR Part 574, Tire Identification and Recordkeeping.

OMB Control Number: 2127-0050.

Form Number: None.

Requested Expiration Date of Approval: Three years from the approval date.

Type of Request: Extension of a currently approved collection.

Summary of the Collection of Information: 49 U.S.C. 30117(b) requires each tire manufacturer to collect and maintain records of the names and addresses of the first purchasers of new tires. To carry out this mandate, 49 CFR Part 574 requires tire dealers and distributors to record the names and addresses of retail purchasers of new tires and the identification number(s) of the tires sold. A specific form is provided to tire dealers and distributors by tire manufacturers for recording this information. The completed forms are returned to the tire manufacturers where they are to remain for three years after the date received by the manufacturer. Additionally, motor vehicle manufacturers are required to record the names and addresses of the first purchasers of new motor vehicles, together with the identification numbers of the tires on the new vehicles.

The Motor Vehicle Safety and Cost Savings Authorization Act of 1982 (P.L. 97-311) prohibited NHTSA from enforcing the mandatory tire registration provisions in 49 CFR Part 574 against dealers and distributors whose business is not owned or controlled by a tire manufacturer (hereinafter referred to as “independent dealers”). For independent dealers, Congress specified that a voluntary registration system would take effect as soon as this agency specified the format and content of the voluntary tire registration forms and standardized the information for all independent dealers.

The previously specified mandatory tire registration requirements remain applicable to all dealers and distributors other than independent dealers and that the requirements for tire and vehicle manufacturers are unchanged.

Description of the Need for the Information and the Proposed Use of the Information: The information is used by a tire manufacturer, when it determines that some of its tires either fail to comply with an applicable safety standard or contain a safety related defect. With the information, the tire manufacturer can notify the first purchaser of the tire and provide the purchaser with any necessary information or instructions.

Description of the Likely Respondents (Including Estimated Number and Proposed Frequency of Response to the Collection of Information): It is estimated that this collection of information affects 10 million respondents annually. This group consists of approximately 8 tire manufacturers, 12,000 new tire dealers and distributors, and 10 million consumers who choose to register their tire purchasers with the tire manufacturers. A response is required by motor vehicle manufacturers upon each sale of a new vehicle and by non-independent tire dealers with each sale of a new tire. A consumer may elect to respond when purchasing a new tire from an independent dealer.

Estimate of the Total Annual Reporting and Recordkeeping Burden Resulting from the Collection of Information: The estimated burden is as follows:

New tire dealers and distributors | 12,000.
Consumers | 10,000,000.
Total tire registrations (manually) | 54,000,000.
Total registration hours (manual) | 225,000 hours.
Recordkeeping hours (manual) | 25,000 hours.
Total annual tire registration and recordkeeping hours | 250,000 hours.

In addition, before this collection of information is approved, OMB has asked NHTSA to respond to the following questions:

1. Solicit public comment on how NHTSA can cost-effectively reduce the collection of information burden and enhance the practical utility of this information collection.

2. Estimate the percentage of individual purchasers of replacement tires for which contact information is maintained that is adequate to contact them, for two recent years of tire purchases. For comparison, similarly estimate the percentage of new vehicles for which there is adequate contact information maintained for tire recalls, for two recent years of vehicle purchases.

3. Provide each NHTSA evaluation of the success of procedures for keeping records on first purchasers of tires, under 49 U.S.C. 30117(b)(3), including “the extent to which distributors and dealers have encouraged first purchasers of tires to register the tires” and a “detailed statement of the decision and an explanation of the reasons for the decision.” Also, estimate the extent to which such mandated recordkeeping is or is not cost-effective.

4. Respond to the following: Does 49 CFR 574.7 specify a form to be used? Why is a form set in a final rule? If that form is actually required or offered, provide it to OMB. It should include a currently valid control number and the consequences of failure to provide a valid number. Include any such form in the notices—which should specify collecting information for tire recalls— and solicit comment on: (a) Whether that is an efficient and effective way to collect the information needed for recalls; (b) whether electronic or telephonic collection of information would be more efficient; and (c) generally, what form(s) of information collection would most efficiently and effectively encourage tire sellers and purchasers to provide recall information.

5. Determine whether or not, under 49 U.S.C. 3017(b) or otherwise, the DOT Secretary has the authority by rule or otherwise to allow electronic (e.g., via the Internet) or telephonic collection—in lieu of paper-based collection—of the information pertinent to that provision. In the opinion of DOT/NHTSA can such information collection procedures change without a change in this rule? Please explain why or why not. If new rulemaking is needed, shouldn't that occur to better achieve the goals of both the authorizing statute and the PRA?

6. Clarify whether, under the statute and regulation, this collection of information is voluntary or mandatory for the tire dealer and similarly, for the tire purchaser.

7. Refer to the letter of July 18, 2003 from the NHTSA Chief Counsel to Ann Wilson of the Rubber Manufacturers Association. Kindly explain why telephone or electronic registration may be a supplement to the required mail-in form, but not in lieu of it Since burden is properly estimated by the actual time taken, not by whether any approach is voluntary or not, wouldn't registration that only supplements a paper form lead to additional burdens? At the same time couldn't an alternative—not a supplementary—approach reduce total burden and be more effective?

8. Verify whether or not the statute and rule require the contact/registration information be kept for at least five years, not three years.

Comments on these issues raised by OMB are solicited. NHTSA will take these comments into consideration in its submission to OMB asking for an extension of OMB Clearance No. 2127-0050.

Authority: 44 U.S.C.3506(c); delegation of authority at 49 CFR 1.50.

Issued on: December 5, 2006.
H. Keith Brewer,
Director, Crash Avoidance Standards.

[FR Doc. E6-20936 Filed 12-7-06; 8:45 am]

BILLING CODE 4910-59-P